DEPARTMENT OF THE INTERIOR

Fish and Wildlife Service

[FWS-R6-R-2015-N208; FF06R06000-FXRS12610600000-167]

San Luis Valley National Wildlife Refuge Complex, CO; Availability of Record of Decision for the Final Comprehensive Conservation Plan and Final Environmental Impact Statement

AGENCY: Fish and Wildlife Service, Interior.

ACTION: Notice of availability.

SUMMARY: We, the U.S. Fish and Wildlife Service (Service), announce the availability of a record of decision (ROD) for the final comprehensive conservation plan (CCP) and final environmental impact statement (EIS) for the San Luis Valley National Wildlife Refuge Complex (Refuge Complex).

ADDRESSES: You may view or obtain copies of the ROD, the final CCP and final EIS, or other project information by any of the following methods:

Agency Web site: Download a copy of the documents at http://www.fws.gov/mountain-prairie/refuges/alm_bac_mtv.php

Email: slvrefugesplanning@fws.gov. Include “Request copy of San Luis Valley NWR Complex ROD” in the subject line of the message.

U.S. mail: San Luis Valley NWR Complex, 8249 Emperius Road, Alamosa, CO 81101.

Local Libraries: The final documents are available for review at the libraries listed under SUPPLEMENTARY INFORMATION.

FOR FURTHER INFORMATION CONTACT: Sharon Vaughn, Project Leader, at 719-589-4021 (phone), or Laurie Shannon, Planning Team Leader, 303-236-4317 (phone) or laurie_shannon@fws.gov (email).

SUPPLEMENTARY INFORMATION:

Introduction

With this notice, we finalize the CCP process for The San Luis Valley National Wildlife Refuge Complex. We started this process through a notice in the Federal Register (76 FR 14042, March 15, 2011). Following a lengthy scoping and alternatives development period, we published a second notice in the Federal Register (79 FR 50937, August 26, 2014), announcing the availability of the draft CCP and draft EIS and our intention to hold public meetings, and requesting comments. We then published a third notice in the Federal Register (80 FR 48328, August 12, 2015), announcing the publication of the final CCP and final EIS.

The primary planning area for this decision includes Alamosa, Monte Vista, and Baca National Wildlife Refuges (NWRs), which are located in Alamosa, Rio Grande, and Saguache Counties in the San Luis Valley, Colorado.

Wildlife habitat on the three national wildlife refuges includes diverse wetlands and playas, riparian areas, grasslands, and shrublands that provide important resources for many migratory birds, Rocky Mountain elk, deer, and a variety of other resident wildlife. About 18,000 to 20,000 greater sandhill cranes migrate through the valley every spring and fall, where they spend several weeks resting and foraging for food on and around the Monte Vista NWR. The federally endangered southwestern willow flycatcher breeds along the Rio Grande on the Alamosa NWR. Baca NWR has one of two aboriginal (natural) populations of Rio Grande sucker found in the State.

Visitors take part in a variety of wildlife-dependent recreational activities on the Refuge Complex. Every year, the Monte Vista Crane Festival attracts thousands of visitors who come to see sandhill cranes and waterfowl. The Monte Vista and Alamosa NWRs are also open for waterfowl and limited small game hunting, wildlife observation, photography, interpretation, and environmental education. As part of this CCP and EIS process, we have considered opening the Baca NWR for similar opportunities.

Over 12,000 years of prehistory and history have been recorded in the San Luis Valley, and all three national wildlife refuges contain significant cultural resources.

In accordance with National Environmental Policy Act (NEPA) (40 CFR 1506.6(b)) requirements, this notice announces the availability of the ROD for the final CCP and final EIS for San Luis Valley NWR Complex. We completed a thorough analysis of the environmental, social, and economic considerations associated with our actions. The ROD documents our selection of alternative B, the preferred alternative.

The CCP will guide us in managing and administering the Refuge Complex for the next 15 years. Alternative B, as we described in the final EIS/ROD, is the foundation for the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Administration Act.

CCP Alternatives and Selected Alternative

Our final CCP and final EIS (80 FR 48328; August 12, 2015) addressed several issues. To address these, we developed and evaluated the following alternatives: Alternative A—No Action; Alternative B—Wildlife Populations, Strategic Habitat Restoration, and Enhanced Public Uses; Alternative C—Habitat Restoration and Ecological Processes; and Alternative D—Maximize Public Use Opportunities.

After consideration of the more than 1,000 comments that we received on the draft CCP and draft EIS, we have selected alternative B—Wildlife Populations, Strategic Habitat Restoration, and Enhanced Public Uses. It is the alternative that best meets the purposes of the refuges, the mission of the National Wildlife Refuge System, and the vision and management goals set for the Refuge Complex; and it adheres to Service policies and guidelines. It considers the interests and perspectives of many agencies, organization, tribes, and the public. Additionally, it is the environmentally preferred alternative.

Under alternative B and in cooperation with our partners, we will maintain or restore the composition, structure, and function of the natural and modified habitats within the Refuge Complex. We will consider the ecological site characteristics and wildlife species needs on our Refuge Complex lands by developing sound and sustainable management strategies that preserve and restore ecological (biological) integrity, productivity, and biological diversity. We will apply strategic habitat conservation principles (a structured, science-driven, and adaptive approach) in determining how to best manage our lands for native fish, wildlife, and plant species, with a particular emphasis on migratory birds, waterfowl, and declining species listed under the Endangered Species Act (listed species). Compatible wildlife-dependent public uses will be enhanced and expanded to include all three refuges. We will facilitate the protection, restoration, and conservation of important water resources through partnerships, public education, and stewardship.

Public Availability of Documents

In addition to any one method in ADDRESSES, you can view or obtain documents at the following locations:

• Our Web site: http://www.fws.gov/mountain-prairie/refuges/refugesUpdate/alm_bac_mtv.php

• Public libraries:

Library | Address | Phone No.
Alamosa Public Library | 300 Hunt Avenue, Alamosa, CO 81101 | (719) 589-6592
Carnegie Public Library | 120 Jefferson Street, Monte Vista, CO 81144 | (719) 852-3931
Baca Grande Library | 67487 County Road T, Crestone, CO 81131 | (719) 256-4100
Saguache Public Library | 702 Pitkin Ave., Saguache, CO 81149 | (719) 655-2551

Dated: December 4, 2015.
Matt Hogan,
Acting Regional Director, Mountain-Prairie Region, U.S. Fish and Wildlife Service.

[FR Doc. 2015-31231 Filed 12-10-15; 8:45 am]

BILLING CODE 4333-15-P